RAILROAD RETIREMENT BOARD

Notice of Public Meeting; Sunshine Act

Notice was previously published at 66 FR 14944 on March 14, 2001, that the Railroad Retirement Board would hold a meeting on March 20, 2001, 10 a.m., at the Board's meeting room on the 8th floor of its headquarters building, 844 North Rush Street, Chicago, Illinois 60611. This meeting has been rescheduled to March 27, 2001, at 10 a.m. The agenda remains the same.

The entire meeting will be closed to the public. The person to contact for more information is Beatrice Ezerski, Secretary to the Board, Phone No. 312-751-4920.

Dated: March 20, 2001.
Beatrice Ezerski,
Secretary to the Board.

[FR Doc. 01-7344 Filed 3-21-01; 10:44 am]

BILLING CODE 7905-01-M